POSTAL SERVICE

39 CFR Part 111

Sack Preparation Changes for Periodicals Mail

AGENCY: Postal Service.

ACTION: Final rule.

SUMMARY: This final rule adopts new mailing standards for Periodicals mail prepared in sacks. The standards include two new types of sacks—a 3-digit carrier routes sack and a merged 3-digit sack—and a new minimum of 24 pieces for most other sacks.

DATES: Effective Date: May 11, 2006.

FOR FURTHER INFORMATION CONTACT: Joel Walker, 202-268-7266.

SUPPLEMENTARY INFORMATION:

Background

The Postal Service published a proposal in the Federal Register on August 15, 2005 (70 FR 47754), to require most sacks of Periodicals mail to contain a minimum of 24 pieces. This change encourages more efficient mail preparation, helping us reduce the costs of transporting and processing mail in sacks and, as a result, helping keep Periodicals rates reasonable.

Summary of Comments

We received 65 comments on the proposal. Fifty-six comments came from representatives or publishers of community newspapers; 45 of these were similar comments submitted on their association's preprinted form. Three comments came from individual subscribers to community newspapers, three from community newspaper associations, one from a magazine publishers' association, one from a commercial mailer, and one from a software vendor.

Two commenters, the magazine publishers' association and the commercial mailer, expressed support for the proposal, agreeing that it will significantly reduce the number of sacks. One commenter noted that the proposal would yield substantial cost savings while still preserving carrier route eligibility.

The 56 comments from representatives and publishers of community newspapers, the three comments from community newspaper associations, and three comments from individual subscribers to community newspapers objected to the proposal. They expressed concerns about a potential negative impact on service, especially for the out-of-town subscriber; a potential for increased resources needed to prepare mail under the new standards; and a potential increase in postage for nonautomation pieces.

We believe that two new options we introduced on October 27, 2005, will help to address concerns commenters expressed about service. The first option allows a significant portion of Periodicals mail prepared in mixed area distribution center (ADC) sacks to be processed with First-Class Mail and travel on the surface transportation network. The second preparation option allows mailers to place Automated Flat Sorting Machine (AFSM) 100-compatible mailpieces in ADC and mixed ADC flat trays instead of sacks and will help us move mail quickly to the appropriate flat-sorting equipment instead of handling it manually. Both options should improve service for Periodicals mail.

Some commenters expressed concern that the new standards might increase their postage and mail preparation costs. Mailers of nonautomation pieces may experience some increase in the rates they pay. This rule, however, introduces two new sacks that will mitigate the overall rate impact by preserving carrier route rate eligibility whenever six or more pieces are sorted to a carrier route. Furthermore, we believe that handling and labeling fewer sacks in a mailing is more efficient and therefore less costly for mailers.

One commenter proposed allowing 5-digit sacks of fewer than 24 pieces for ZIP Codes within the service area of the entry sectional center facility (SCF) and allowing these sacks to be drop shipped to delivery units. The new 24-piece requirement for most sacks, including 5-digit sacks, reduces handling of sacks at both the processing plant and the delivery unit because fewer sacks are prepared by mailers. Furthermore, when bundles are combined at the processing plant, fewer and fuller 5-digit sacks or containers are created for the delivery units to handle.

One commenter suggested that the standards should address circumstances for heavy-weight Periodicals where 24 pieces would result in heavy sacks that are, for example, over 35 pounds. We currently allow mailers to balance bundles for a presort destination within sacks to avoid preparation of very heavy sacks without losing rate eligibility, provided the mail would have met the minimum quantity for the rate claimed before balancing the bundles. The new standards do not change this practice.

One commenter suggested the new standards would have a negative impact on publishers' use of exceptional dispatch. The new standards do not change exceptional dispatch.

Summary of Changes

New 3-Digit Carrier Routes Sack for Carrier Route Mailings

This sack contains pieces sorted to multiple carrier routes in a 3-digit area, consolidating the bundles formerly prepared in 5-digit carrier routes sacks containing fewer than 24 pieces.

• This new sack must contain a minimum of one six-piece carrier route bundle.

• This sack may contain additional carrier route bundles of fewer than six pieces when those pieces are paid at the basic rate.

New Merged 3-Digit Sack for Merged Mailings

This sack consolidates carrier route, automation, and presorted bundles formerly prepared in merged 5-digit sacks containing fewer than 24 pieces.

• Mailers must prepare this sack if they have one or more carrier route bundles for the 3-digit area once they have prepared all carrier route and merged 5-digit sacks containing 24 or more pieces.

• If a mailing does not include at least one carrier route bundle for the 3-digit area, the merged 3-digit sack must contain a minimum of 24 pieces prepared in 5-digit, 5-digit scheme, 3-digit, and 3-digit scheme bundles.

New 24-Piece Minimum

The following sacks must contain a minimum of 24 pieces:

• Carrier route sacks;

• 5-digit carrier routes sacks;

• 5-digit scheme carrier routes sacks;

• 5-digit sacks;

• 5-digit scheme sacks;

• Merged 5-digit sacks;

• Merged 5-digit scheme sacks;

• 3-digit sacks;

• 3-digit scheme sacks;

• SCF sacks; and

• ADC sacks.

We provide below the new standards, and how they are applied for different mail preparation options for Periodicals. The effective date of these changes is May 11, 2006.

We adopt the following amendments to Mailing Standards of the United States Postal Service, Domestic Mail Manual (DMM), incorporated by reference in the Code of Federal Regulations. See 39 CFR 111.1.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows.

700 Special Standards

* * * * *

705 Advanced Preparation and Special Postage Payment Systems

* * * * *

9.0 Preparation for Cotraying and Cosacking Bundles of Automation and Presorted Flats

* * * * *

9.2 Periodicals

* * * * *

[Revise the title of 9.2.4 as follows.]

9.2.4 Bundles With Fewer Than Six Pieces

[Revise 9.2.4 by adding a reference to 24 pieces as follows.]

5-digit and 3-digit bundles prepared under 707.22.0 and 707.25.0 or under 9.2.3 may contain fewer than six pieces when the publisher determines that such preparation improves service. These low-volume bundles may be placed in 5-digit, 3-digit, and SCF sacks that contain at least 24 pieces or on 5-digit, 3-digit, or SCF pallets. Pieces in low-volume bundles must claim the applicable basic Presorted or automation rate, except for firm bundles at Presorted rates under 707.22.3.

* * * * *

10.0 Preparation for Merged Containerization of Bundles of Flats Using City State Product

10.1 Periodicals

* * * * *

[Revise the title of 10.1.3 as follows.]

10.1.3 Bundles With Fewer Than Six Pieces

[Revise 10.1.3 by restructuring the section for clarity and adding references to 24 pieces and merged 3-digit sacks as follows.]

Carrier route, 5-digit scheme, 5-digit, 3-digit scheme, and 3-digit bundles may contain fewer than six pieces when the publisher determines that such preparation improves service. Pieces in these low-volume bundles must be claimed at the basic rate. Low-volume bundles are permitted only when they are sacked or prepared on pallets as follows:

a. Place low-volume carrier route, 5-digit, 3-digit scheme, and 3-digit bundles in only the following containers:

1. Carrier route, merged 5-digit scheme, 5-digit scheme carrier routes, merged 5-digit, 5-digit carrier routes, 5-digit, 3-digit, and SCF sacks that contain at least 24 pieces;

2. Merged 3-digit sacks that contain at least one six-piece carrier route bundle;

3. Origin/entry SCF sacks; or

4. On merged 5-digit scheme, 5-digit scheme carrier routes, 5-digit scheme, merged 5-digit, 5-digit carrier routes, 5-digit, 5-digit metro, 3-digit, or SCF pallets, as appropriate.

b. Place low-volume 5-digit scheme bundles in only 5-digit scheme, 3-digit, and SCF sacks that contain at least 24 pieces, or in origin/entry SCF sacks, or on 3-digit or SCF pallets, as appropriate.

* * * * *

10.1.4 Sack Preparation and Labeling

[Revise 10.1.4 by adding a reference to 10.1.4h in the introductory paragraph, revising items b through g, adding new item h for merged 3-digit sacks, and revising and renumbering current item h as new item i, as follows.]

Mailers must prepare sacks containing the individual carrier route and 5-digit bundles from the carrier route, automation, and Presorted rate mailings in the mailing job in the following manner and sequence. All carrier route bundles must be placed in sacks under 10.1.4a through 10.1.4e and 10.1.4h as described below. * * *

* * * * *

b. Merged 5-digit scheme, required at 24 pieces, fewer pieces not permitted. Must contain at least one 5-digit ZIP Code in the scheme with an “A” or “C” indicator in the City State Product. May contain carrier route bundles for any 5-digit ZIP Code(s) in a single scheme listed in L001 as well as automation rate 5-digit bundles and Presorted rate 5-digit bundles for those 5-digit ZIP Codes in the schemes that have an “A” or “C” indicator in the City State Product. For 5-digit ZIP Code(s) in a scheme that has a “B” or “D” indicator in the City State Product, prepare sack(s) of automation rate and Presorted rate bundles under 10.1.4g and 10.1.4h. For 5-digit ZIP Codes not included in a scheme, prepare sacks under 10.1.4d through 10.1.4h.

1. Line 1: use L001, Column B.

2. Line 2: “PER” or “NEWS” as applicable, followed by “FLTS” or “IRREG” as applicable, followed by “CR/5D SCH.”

c. 5-digit scheme carrier routes, required at 24 pieces, fewer pieces not permitted. May contain only carrier route bundles for 5-digit ZIP Code(s) in a single scheme listed in L001 when all the 5-digits in the scheme have a “B” or “D” indicator in the City State Product. Mailers must prepare this sack if there are any carrier route bundle(s) for such a scheme.

1. Line 1: use L001, Column B.

2. Line 2: “PER” or “NEWS” as applicable, followed by “FLTS” or “IRREG” as applicable, followed by “CR-RTS SCH.”

d. Merged 5-digit, required at 24 pieces, fewer pieces not permitted. Must be prepared only for those 5-digit ZIP Codes that are not part of a scheme and that have an “A” or “C” indicator in the City State Product. May contain carrier route bundles, automation rate 5-digit bundles, and Presorted rate 5-digit bundles.

1. Line 1: use city, state, and 5-digit ZIP Code destination (see 707.21.1.2 for military mail).

2. Line 2: “PER” or “NEWS” as applicable, followed by “FLTS” or “IRREG” as applicable, followed by “CR/5D.”

e. 5-digit carrier routes, required at 24 pieces, fewer pieces not permitted. Include only carrier route bundles for a 5-digit ZIP Code remaining after preparing sacks under 10.1.4a through 10.1.4d. May contain only carrier route bundles for any 5-digit ZIP Code that is not part of a scheme listed in L001 and that has a “B” or “D” indicator in the City State Product.

1. Line 1: use city, state, and 5-digit ZIP Code destination (see 707.21.1.2 for military mail).

2. Line 2: “PER” or “NEWS” as applicable, followed by “FLTS” or “IRREG” as applicable, followed by “CR-RTS.”

f. 5-digit scheme, required at 24 pieces, fewer pieces not permitted. May contain only automation rate and cobundled automation and Presorted rate 5-digit scheme bundles for the same 5-digit scheme destination.

1. Line 1: L007, Column B.

2. Line 2: “PER” or “NEWS” as applicable, followed by “FLTS 5D SCH BC.”

g. 5-digit, required at 24 pieces, fewer pieces not permitted. May contain only automation rate 5-digit bundles and Presorted rate 5-digit bundles for the same 5-digit ZIP Code for any 5-digit ZIP Code that has a “B” or “D” indicator in the City State Product.

1. Line 1: use city, state, and 5-digit ZIP Code destination (see 707.21.1.2 for military mail).

2. Line 2: “PER” or “NEWS” as applicable, followed by “FLTS 5D BC/NBC,” except if there are no automation rate bundles in the mailing job, label under 707.22.6.

h. Merged 3-digit. May contain carrier route bundles, any 5-digit and 5-digit scheme bundles remaining after preparing sacks under 10.1.4a through 10.1.4g, and any 3-digit and 3-digit scheme bundles. When preparation of this sack level is permitted, mailers must prepare a sack if there are any remaining carrier route bundles for the 3-digit area. Required with at least one six-piece carrier route bundle. Must contain at least one carrier route bundle for the 3-digit area, or a minimum of 24 pieces.

1. Line 1: use L002, Column A.

2. Line 2: “PER” or “NEWS” as applicable, followed by “FLTS” or “IRREG” as applicable, followed by “BC/NBC,” except if there are no automation rate bundles in the mailing job, label under 707.22.6.

i. SCF through mixed ADC. Any 5-digit scheme and 5-digit bundles remaining after preparing sacks under 10.1.4a through 10.1.4h and all 3-digit, 3-digit scheme, ADC, and mixed ADC bundles must be sacked and labeled under 9.2 for cosacking of automation rate and Presorted rate bundles, except if there are no automation rate bundles in the mailing job, sack and label under 707.22.6, or if there are no Presorted rate bundles in the mailing job, sack and label under 707.25.3.

* * * * *

11.0 Preparation of Cobundled Automation Rate and Presorted Rate Flats

* * * * *

11.2 Periodicals

* * * * *

[Revise the title of 11.2.3 and add a reference to 24 pieces as follows.]

11.2.3 Bundles With Fewer Than Six Pieces

5-digit scheme, 5-digit, 3-digit scheme, and 3-digit bundles may contain fewer than six pieces when the publisher determines that such preparation improves service. Pieces in these low-volume bundles must be claimed at the basic rate. Low-volume bundles are permitted only when they are sacked or prepared on pallets as follows:

a. Place low-volume 5-digit and 3-digit bundles in only 5-digit scheme, 5-digit, 3-digit, and SCF sacks that contain at least 24 pieces; or in origin/entry SCF sacks; or on merged 5-digit scheme, 5-digit scheme, merged 5-digit, 5-digit, 5-digit metro, 3-digit, or SCF pallets, as appropriate.

b. Place low-volume 5-digit scheme and 3-digit scheme bundles in only 5-digit scheme, 3-digit, and SCF sacks that contain at least 24 pieces, or in origin/entry SCF sacks, or on 3-digit or SCF pallets, as appropriate.

* * * * *

707 Periodicals

* * * * *

13.0 Carrier Route Rate Eligibility

* * * * *

13.2 Sortation

13.2.1 Sequencing

* * * * *

[Revise item b2 by adding “3-digit carrier routes sacks” as follows.]

2. Bundles in carrier route, 5-digit scheme carrier routes, 5-digit carrier routes sacks, or 3-digit carrier routes sacks under 23.0. Sacks may be palletized under 705.8.0.

* * * * *

20.0 Sacks and Trays

* * * * *

22.0 Preparation of Presorted Periodicals

* * * * *

[Revise the title of 22.4 as follows.]

22.4 Bundles With Fewer Than Six Pieces

[Revise 22.4 for clarity and to add reference to 24 pieces as follows.]

Nonletter-size Periodicals may be prepared in 5-digit and 3-digit bundles containing fewer than six pieces when the publisher determines that such preparation improves service. Pieces in these low-volume bundles must be claimed at the basic rate. Low-volume bundles are permitted only when they are sacked or prepared on pallets as follows:

a. Place bundles in only 5-digit, 3-digit, and SCF sacks that contain at least 24 pieces, or in origin/entry SCF sacks, as appropriate.

b. Place bundles on only merged 5-digit scheme, 5-digit scheme, merged 5-digit, 5-digit, 5-digit metro, 3-digit, and SCF pallets.

* * * * *

22.6 Sack Preparation—Flat-Size Pieces and Irregular Parcels

* * * * *

[Revise items a, b, c, and e to amend sack minimum requirements as follows.]

a. 5-digit, required at 24 pieces, fewer pieces not permitted. * * *

b. 3-digit, required at 24 pieces, fewer pieces not permitted. * * *

c. SCF, required at 24 pieces, fewer pieces not permitted. * * *

* * * * *

e. ADC, required at 24 pieces, fewer pieces not permitted. * * *

* * * * *

23.0 Preparation of Carrier Route Periodicals

* * * * *

23.4 Preparation—Flat-Size Pieces and Irregular Parcels

23.4.1 Sacking and Labeling

[Revise 23.4.1 by adding new item d for 3-digit carrier routes sacks and adding 24-piece minimums to all other sack levels as follows.]

Preparation sequence, sack size, and labeling:

a. Carrier route, required at 24 pieces, fewer pieces not permitted. * * *

b. 5-digit scheme carrier routes, required at 24 pieces, fewer pieces not permitted. * * *

c. 5-digit carrier routes, required at 24 pieces, fewer pieces not permitted. * * *

d. 3-digit carrier routes, optional with one six-piece bundle.

1. Line 1: use the city, state, and ZIP Code shown in L002, Column A, that corresponds to the 3-digit ZIP Code prefix of bundles.

2. Line 2: “PER” or “NEWS” as applicable, followed by “FLTS 3D” or “IRREG 3D” as applicable, followed by “CR-RTS.”

* * * * *

[Revise 23.6 by revising the title, restructuring the text for clarity, deleting “merged 5-digit scheme” and “merged 5-digit” in item a, and adding a reference to 24 pieces, as follows.]

23.6 Bundles With Fewer Than Six Pieces

Nonletter-size Periodicals may be prepared in carrier route bundles containing fewer than six pieces when the publisher determines that such preparation improves service. Pieces in these low-volume bundles must be claimed at the basic rate. Low-volume carrier route bundles are permitted only when they are sacked or prepared on pallets as follows:

a. Place bundles in only 5-digit scheme carrier routes and 5-digit carrier routes sacks that contain at least 24 pieces, or 3-digit carrier routes or merged 3-digit sacks that contain at least one six-piece carrier route bundle.

b. Place bundles on only merged 5-digit scheme, 5-digit scheme carrier routes, merged 5 digit, 5-digit carrier routes, 5-digit metro, 3-digit, and SCF pallets.

* * * * *

25.0 Preparation of Flat-Size Automation Periodicals

25.1 Basic Standards

* * * * *

[Revise title of 25.1.9 as follows.]

25.1.9 Bundles With Fewer Than Six Pieces

[Revise 25.1.9 for clarity and to add references to 24 pieces, as follows.]

5-digit scheme, 5-digit, 3-digit scheme, and 3-digit bundles may contain fewer than six pieces when the publisher determines that such preparation improves service. Pieces in bundles containing fewer than six pieces must be claimed at the basic rate. These low-volume bundles are permitted only when they are sacked or prepared on pallets under these conditions:

a. Place 5-digit and 3-digit bundles in only 5-digit scheme, 5-digit, 3-digit, and SCF sacks, as appropriate, that contain at least 24 pieces, or in merged 3-digit sacks that contain at least one six-piece carrier route bundle, or in origin/entry SCF sacks.

b. Place 5-digit and 3-digit bundles on only merged 5-digit scheme, 5-digit scheme, merged 5-digit, 5-digit, 5-digit metro, 3-digit, and SCF pallets, as appropriate.

c. Place 5-digit scheme and 3-digit scheme bundles in only 5-digit scheme, 3-digit, and SCF sacks, as appropriate, that contain at least 24 pieces, or in merged 3-digit sacks that contain at least one six-piece carrier route bundle, or in origin/entry SCF sacks.

d. Place 5-digit scheme and 3-digit scheme bundles on only 3-digit and SCF pallets, as appropriate.

* * * * *

25.3 Sacking and Labeling

* * * * *

[Revise items a through d and item f by amending sack minimum requirements as follows.]

a. 5-digit scheme, required at 24 pieces, fewer pieces not permitted; may contain 5-digit scheme bundles only; labeling: * * *

b. 5-digit , required at 24 pieces, fewer pieces not permitted; labeling: * * *

c. 3-digit, required at 24 pieces, fewer pieces not permitted; labeling: * * *

d. SCF, required at 24 pieces, fewer pieces not permitted; labeling: * * *

* * * * *

f. ADC, required at 24 pieces, fewer pieces not permitted; labeling: * * *

* * * * *

708 Technical Specifications

* * * * *

6.1.4 3-Digit Content Identifier Numbers

[Revise Exhibit 6.1.4 by changing the following 5-digit carrier route content identifiers and adding the following new 3-digit content identifier numbers.]

* * * * *

PER Flats—Carrier Route

5-digit carrier routes sacks 386—PER FLTS 5D CR-RTS

3-digit carrier routes sacks 351—PER FLTS 3D CR-RTS

* * * * *

PER Flats—Merged Carrier Route, Automation, and Presorted

merged 3-digit sacks 352—PER FLTS CR/5D/3D

* * * * *

PER Irregular Parcels—Merged Carrier Route and Presorted

merged 3-digit sacks 354—PER IRREG CR/5D/3D

* * * * *

PER Irregular Parcels—Carrier Route

5-digit carrier routes sacks 396—PER IRREG 5D CR-RTS

3-digit carrier routes sacks 355—PER IRREG 3D CR-RTS

* * * * *

NEWS Flats—Carrier Route

5-digit carrier routes sacks 486—NEWS FLTS 5D CR-RTS

3-digit carrier routes sacks 451—NEWS FLTS 3D CR-RTS

* * * * *

NEWS Flats—Merged Carrier Route, Automation, and Presorted

merged 3-digit sacks 452—NEWS FLTS CR/5D/3D

* * * * *

NEWS Irregular Parcels—Merged Carrier Route and Presorted

merged 3-digit sacks 454—NEWS IRREG CR/5D/3D

* * * * *

NEWS Irregular Parcels—Carrier Route

5-digit carrier routes sacks 496—NEWS IRREG 5D CR-RTS

3-digit carrier routes sacks 455—NEWS IRREG 3D CR-RTS

* * * * *

Neva R. Watson,
Attorney, Legislative.

[FR Doc. 06-326 Filed 1-11-06; 8:45 am]

BILLING CODE 7710-12-P